DEPARTMENT OF ENERGY

Federal Energy Regulatory Commission

[Project No. 13345-000]

Shearwater Design Inc.; Notice of Preliminary Permit Application Accepted for Filing and Soliciting Comments, Motions To Intervene, and Competing Applications

February 26, 2009.

On December 15, 2008, and supplemented on February 5, 2009, and February 24, 2009, Shearwater Design Inc. filed an application, pursuant to section 4(f) of the Federal Power Act, proposing to study the feasibility of the Homeowner Tidal Power Electric Generation Project located on the Kennebec River in Sagadahoc County, Maine. The project uses no dam or impoundment.

The proposed project would consist of: (1) 6 hydrokinetic turbine units that would be directly connected to individual homes, with a total installed capacity of 60-kilowatts, and (2) appurtenant facilities. The project is estimated to have an annual generation of 150,000-kilowatt-hours, which would be used by the homeowners and net metered back into the electricity power grid.

Applicant Contact: Ms. Dot Kelly, Shearwater Design Inc., 83 Captain Perry Drive, Phippsburg, Maine 04562, phone: (207) 443-4787.

FERC Contact: Kelly T. Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13345-000) in the docket number field to access the document. For assistance, call toll-free 1-866-208-3372.

Kimberly D. Bose,
Secretary.

[FR Doc. E9-4716 Filed 3-4-09; 8:45 am]

BILLING CODE 6717-01-P